ENVIRONMENTAL PROTECTION AGENCY

40 CFR Part 80

[FRL-8293-1]

Regulation of Fuels and Fuel Additives: Extension of the Reformulated Gasoline Program to the East St. Louis, IL Ozone Nonattainment Area

AGENCY: Environmental Protection Agency (EPA).

ACTION: Withdrawal of direct final rule.

SUMMARY: EPA published a direct final rule on December 27, 2006, to extend the reformulated gasoline program to the Illinois portion of the St. Louis Illinois-Missouri ozone nonattainment area effective as of May 1, 2007. However, we received an adverse comment during the 30 day comment period and are now withdrawing that direct final rule.

DATES: As of March 29, 2007, EPA withdraws the direct final rule published at 71 FR 77615, on December 27, 2006.

FOR FURTHER INFORMATION CONTACT: Kurt Gustafson at (202) 343-9219.

SUPPLEMENTARY INFORMATION: Because EPA received adverse comment, we are withdrawing the direct final rule for “Regulation of Fuels and Fuel Additives: Extension of the Reformulated Gasoline Program to the East St. Louis, Illinois Ozone Nonattainment Area.” We published the direct final rule on December 27, 2006 (71 FR 77615), that would have approved the State of Illinois's request to opt-in to the Federal Reformulated Gasoline Program effective as of May 1, 2007. That action would have amended our regulations to make the Illinois portion of the St. Louis, Illinois-Missouri ozone nonattainment area a covered area and prohibit the sale of conventional gasoline. We stated in that Federal Register document that if we received adverse comment by January 26, 2007, we would publish a timely notice of withdrawal in the Federal Register. We subsequently received an adverse comment.

We will address the comment in a subsequent final action based on the parallel proposal also published on December 27, 2006 (71 FR 77690). As stated in the parallel proposal, we will not institute a second comment period on this action.

Dated: March 22, 2007.
Stephen L. Johnson,
Administrator.

PART 80—REGULATION OF FUELS AND FUEL ADDITIVES

§ 80.70 [Amended].

Accordingly, the amendment to 40 CFR 80.70 which was published in the Federal Register on December 27, 2006 (71 FR 77615) is withdrawn as of March 29, 2007.

[FR Doc. E7-5808 Filed 3-28-07; 8:45 am]

BILLING CODE 6560-50-P